DEPARTMENT OF AGRICULTURE

Farm Service Agency

United States Warehouse Act—Official Media for Public Notification

AGENCY: Farm Service Agency, USDA.

ACTION: Notice.

SUMMARY: This notice announces an official media system for all public notification of important amendments, notices, actions, issues, and activities regarding the United States Warehouse Act (USWA). This warehouse information will include the suspension or revocation of warehouse licenses, fees, draft and final documents and other pertinent information that is of public interest. This action is being taken to increase the public's awareness of the ongoing activities and functions under the USWA.

Background

The Secretary of Agriculture has the authority to make available public information as deemed appropriate for interested parties. The FSA is designating a single website for this type of information to enhance the public's awareness of the activities and functions of the USWA. The following site has been designated as the USWA's official website where all USWA public information can be found: http://www.fsa.usda.gov/daco/uswa.htm.

Also, starting in April 2003, FSA's Kansas City Commodity Office (KCCO) stopped mailing hard copies of public notices and USWA notices to the warehouse trade. To replace the mailing of hard copies, when notices are posted to USWA's official website KCCO will automatically e-mail them to everyone who has enrolled at http://www.fsa.usda.gov/daco/subscribe.asp.

FOR FURTHER INFORMATION CONTACT: Roger Hinkle, United States Warehouse Act Program Manager, Warehouse and Inventory Division, Farm Service Agency (FSA), United States Department of Agriculture, 1400 Independence Avenue, SW., STOP 0553, Washington, DC 20250-0553, telephone (202) 720-7433 FAX: (202) 690-3123, E-Mail: Roger_Hinkle@wdc.usda.gov.

Signed at Washington, DC July 30, 2003.
James R. Little,
Administrator, Farm Service Agency.

[FR Doc. 03-22858 Filed 9-8-03; 8:45 am]

BILLING CODE 3410-05-P